DEPARTMENT OF ENERGY

Federal Energy Regulatory Commission

Combined Notice of Filings # 1

March 17, 2009.

Take notice that the Commission received the following electric corporate filings:

Docket Numbers: EC09-59-000.

Applicants: Wachovia Corporation, Wells Fargo & Company.

Description: Joint Application for Authorization Under Section 203 of the Federal Power Act and Request for Waiver of Certain Commission Requirements.

Filed Date: 03/11/2009.

Accession Number: 20090311-5113.

Comment Date: 5 p.m. Eastern Time on Wednesday, April 01, 2009.

Take notice that the Commission received the following electric rate filings:

Docket Numbers: ER00-1952-007; ER01-1784-010; ER03-222-009; ER08-333-003; ER08-851-002; ER99-1248-009.

Applicants: Black Hills Colorado, LLC; Fountain Valley Power, LLC; Las Vegas Cogeneration II, LLC; Las Vegas Cogeneration LP; Valencia Power, LLC; Harbor Cogeneration Company, LLC.

Description: Southwest Generation Operating Co, LLC et al. submits statement that it has not erected barriers to entry into the wholesale energy markets and that it will not erect barries to entry into the wholesale energy markets.

Filed Date: 03/13/2009.

Accession Number: 20090316-0082.

Comment Date: 5 p.m. Eastern Time on Friday, April 03, 2009.

Docket Numbers: ER06-615-042; ER07-1257-010.

Applicants: California Independent System Operator Corporation.

Description: California Independent System Operator Corporation submits instant filing in compliance with the FERC order Conditional Accepting Tariff Modifications issued 2/19/09.

Filed Date: 03/13/2009.

Accession Number: 20090316-0219.

Comment Date: 5 p.m. Eastern Time on Friday, April 03, 2009.

Docket Numbers: ER09-554-001.

Applicants: EcoGrove Wind, LLC.

Description: EcoGrove Wind, LLC submits a First Revised Sheet 1 of its Tariff to replace Original Sheet 1 of its Tariff.

Filed Date: 03/13/2009.

Accession Number: 20090316-0222.

Comment Date: 5 p.m. Eastern Time on Friday, April 03, 2009.

Docket Numbers: ER09-740-001.

Applicants: Carolina Power & Light Company.

Description: Carolina Power & Light Company submits Substitute Original Sheet 11 et al. to FERC Electric Tariff, Fourth Revised Volume 3 Service Agreement 301.

Filed Date: 03/13/2009.

Accession Number: 20090316-0220.

Comment Date: 5 p.m. Eastern Time on Friday, April 03, 2009.

Docket Numbers: ER09-764-001.

Applicants: Wisconsin Electric Power Company.

Description: Wisconsin Electric Power Company submits revised tariff sheets Second Revised Volume 1 et al. to FERC Electric Tariff, Second Revised Volume 2 to be effective 1/6/09.

Filed Date: 03/11/2009.

Accession Number: 20090312-0279.

Comment Date: 5 p.m. Eastern Time on Wednesday, April 01, 2009.

Docket Numbers: ER09-768-000.

Applicants: Saranac Power Partners, L.P.

Description: Saranac Power Partners, L.P., Amendment to MBR Application.

Filed Date: 03/16/2009.

Accession Number: 20090316-5176.

Comment Date: 5 p.m. Eastern Time on Monday, April 06, 2009.

Docket Numbers: ER09-775-001.

Applicants: TexRep2 LLC.

Description: TexRep2, LLC submits amended notification of cancellation to FERC Electric Tariff, Original Volume No 1.

Filed Date: 03/12/2009.

Accession Number: 20090313-0124.

Comment Date: 5 p.m. Eastern Time on Thursday, April 02, 2009.

Docket Numbers: ER09-844-000.

Applicants: PacifiCorp.

Description: PacifiCorp submits Electric Utility Services Agreement dated 2/13/09 between Rocky Mountain Power, d/b/a PacifiCorp, and Price City, to be designated as PacifiCorp Rate Schedule FERC 640.

Filed Date: 03/13/2009.

Accession Number: 20090316-0217.

Comment Date: 5 p.m. Eastern Time on Friday, April 03, 2009.

Docket Numbers: ER09-845-000.

Applicants: PacifiCorp.

Description: PacifiCorp submits for filing Revenue Metering Construction Agreement for the Chehalis generation facility agreement dated 2/1/2009 with PacifiCorp Commercial & Trading as Service Agreement 550 under their Seventh Revised Volume 11 OATT.

Filed Date: 03/13/2009.

Accession Number: 20090316-0216.

Comment Date: 5 p.m. Eastern Time on Friday, April 03, 2009.

Docket Numbers: ER09-846-000.

Applicants: Midwest Independent Transmission System Operator, Inc.

Description: Midwest Independent Transmission System Operator, Inc submits revisions to its Open Access Transmission, Energy and Operating Reserve Markets Tariff.

Filed Date: 03/13/2009.

Accession Number: 20090316-0221.

Comment Date: 5 p.m. Eastern Time on Friday, April 03, 2009.

Docket Numbers: ER09-847-000.

Applicants: Eastern Desert Power LLC.

Description: Eastern Desert Power LLC submits Notice of Cancellation of its market based rate tariff, FERC Electric Tariff, Volume 1 to become effective 5/12/09.

Filed Date: 03/13/2009.

Accession Number: 20090316-0215.

Comment Date: 5 p.m. Eastern Time on Friday, April 03, 2009.

Docket Numbers: ER09-848-000.

Applicants: Southern California Edison Company.

Description: Southern California Edison submits revised rate sheets to the Second Amended and Restates Letter Agreement to (Second Amended SCE Letter Agreement) to the Amended and Restated Eldorado System Operation Agreement etc.

Filed Date: 03/13/2009.

Accession Number: 20090316-0214.

Comment Date: 5 p.m. Eastern Time on Friday, April 03, 2009.

Docket Numbers: ER09-849-000.

Applicants: PJM Interconnection, LLC.

Description: PJM Interconnection LLC submits an executed Wholesale Market Participation Agreement entered into among PJM, Borough Participation Agreement for filing because Lehighton intends to engage in wholesale sales in the PJM etc.

Filed Date: 03/13/2009.

Accession Number: 20090316-0213.

Comment Date: 5 p.m. Eastern Time on Friday, April 03, 2009.

Docket Numbers: ER09-853-000.

Applicants: PJM Interconnection L.L.C.

Description: PJM Interconnection, LLC submits an executed interconnection service agreement entered into among PJM, BP Wind Energy North America etc.

Filed Date: 03/16/2009.

Accession Number: 20090317-0262.

Comment Date: 5 p.m. Eastern Time on Monday, April 06, 2009.

Docket Numbers: ER09-854-000.

Applicants: Orange and Rockland Utilities, Inc.

Description: Orange and Rockland Utilities, Inc submits amendment to Orange and Rockland Utilities, Inc Open Access Transmission Tariff, FERC Electric Tariff, Original Volume No 3.

Filed Date: 03/16/2009.

Accession Number: 20090317-0263.

Comment Date: 5 p.m. Eastern Time on Monday, April 06, 2009.

Docket Numbers: ER09-855-000.

Applicants: Midwest Independent Transmission System.

Description: Midwest ISO submits Facilities Construction Agreement among Wapsipinicon Power Partners LLC, etc.

Filed Date: 03/16/2009.

Accession Number: 20090317-0264.

Comment Date: 5 p.m. Eastern Time on Monday, April 06, 2009.

Take notice that the Commission received the following electric reliability filings:

Docket Numbers: RR07-14-003; RR08-6-002.

Applicants: North American Electric Reliability Corp.

Description: Response to Data Request of North American Electric. Reliability Corporation to the FERC's February 27, 2009 Data Request.

Filed Date: 03/16/2009.

Accession Number: 20090316-5179.

Comment Date: 5 p.m. Eastern Time on Wednesday, April 06, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-6417 Filed 3-23-09; 8:45 am]

BILLING CODE 6717-01-P